DEPARTMENT OF JUSTICE

Notice of Lodging of an Amendment to Consent Decree Pursuant to the Clean Water Act

Notice is hereby given that a proposed First Amendment to the Consent Decree entered on February 11, 2005 in United States of America et al. v. Knoxville Utilities Board, Nos. 3:03-CV-497 and 3:04-CV-568, was lodged on February 5, 2009, with the United States District Court for the Eastern District of Tennessee, Northern Division.

The Consent Decree entered on February 11, 2005 resolved the claims of the United States of America, the State of Tennessee, the Tennessee Clean Water Network and the City of Knoxville against the Knoxville Utilities Board (KUB) for violations of the Clean Water Act and four National Pollutant Discharge Elimination System permits. The purpose of the proposed First Amendment is to allow KUB to complete a portion of the Composite Correction Plan (CCP), required pursuant to Section VII.D.1(a)(v) of the Consent Decree, beyond the Consent Decree deadline of December 31, 2016.

Pursuant to the proposed First Amendment, KUB's CCP will provide for a biologically enhanced high-rate clarification (BEHRC) secondary treatment system to be installed at the Fourth Creek treatment plant by June 30, 2018, and at the Kuwahee treatment plant by June 30, 2021.

The Department of Justice will receive comments relating to the First Amendment to the Consent Decree for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States et al. v. Knoxville Utilities Board, DJ No. 90-5-1-1-08186.

The proposed First Amendment to the Consent Decree may be examined at the office of the United States Attorney for the Eastern District of Tennessee, 800 Market Street, Suite 211, Knoxville, TN 37902, and at the Region 4 Office of the Environmental Protection Agency, Atlanta Federal Center, 61 Forsyth Street, SW., Atlanta, GA 30303. During the public comment period, the First Amendment may also be examined on the following Department of Justice Web site, http://www.usdoj.gov/enrd/Consent_Decrees.html. A copy of the First Amendment may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $4.00 (25 cents per page reproduction cost) payable to the U.S. Treasury. The check should refer to United States et al. v. Knoxville Utilities Board, DJ No. 90-5-1-1-08186.

Henry Friedman,
Assistant Section Chief, Environmental Enforcement Section, Environment and Natural Resources Division.

[FR Doc. E9-3019 Filed 2-11-09; 8:45 am]

BILLING CODE 4410-15-P